DEPARTMENT OF STATE

[Public Notice: 9481]

Additional Designation of North Korean Entities Pursuant to Executive Order 13382

AGENCY: Department of State.

ACTION: Designation of the Ministry of Atomic Energy Industry, the Academy of National Defense Science, the National Aerospace Development Administration, Choe Chun Sik, and Kang Mun Kil Pursuant to E.O. 13382, and Additional Identifying Information Concerning the Designated Entity Namchongang Trading Corporation.

SUMMARY: Pursuant to the authority in section 1(ii) of Executive Order 13382, “Blocking Property of Weapons of Mass Destruction Proliferators and Their Supporters”, the Under Secretary of State for Arms Control and International Security, in consultation with the Secretary of the Treasury and the Attorney General, has determined that the North Korean entities Ministry of Atomic Energy Industry, Academy of National Defense Science, the National Aerospace Development Administration as well as the individuals Choe Chun Sik and Kang Mun Kil, have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern. The Under Secretary of State for Arms Control and International Security, in consultation with the Secretary of the Treasury and the Attorney General, has also determined that the North Korean Namhung Trading Corporation is an alias of Namchongang Trading Corporation, which is designated pursuant to Executive Order 13382.

DATES: Effective Dates: The designation of and additional identifying information for the entities and individuals identified in this notice pursuant to Executive Order 13382 is effective upon publication of this notice.

FOR FURTHER INFORMATION CONTACT: Director, Office of Counterproliferation Initiatives, Bureau of International Security and Nonproliferation, Department of State, Washington, DC 20520, tel.: 202-647-5193.

Background

On June 28, 2005, the President, invoking the authority, inter alia, of the International Emergency Economic Powers Act (50 U.S.C. 1701-1706) (“IEEPA”), issued Executive Order 13382 (70 FR 38567, July 1, 2005) (the “Order”), effective at 12:01 a.m. eastern daylight time on June 30, 2005. In the Order the President took additional steps with respect to the national emergency described and declared in Executive Order 12938 of November 14, 1994, regarding the proliferation of weapons of mass destruction and the means of delivering them.

Section 1 of the Order blocks, with certain exceptions, all property and interests in property that are in the United States, or that hereafter come within the United States or that are or hereafter come within the possession or control of United States persons, of: (1) The persons listed in the Annex to the Order; (2) any foreign person determined by the Secretary of State, in consultation with the Secretary of the Treasury, the Attorney General, and other relevant agencies, to have engaged, or attempted to engage, in activities or transactions that have materially contributed to, or pose a risk of materially contributing to, the proliferation of weapons of mass destruction or their means of delivery (including missiles capable of delivering such weapons), including any efforts to manufacture, acquire, possess, develop, transport, transfer or use such items, by any person or foreign country of proliferation concern; (3) any person determined by the Secretary of the Treasury, in consultation with the Secretary of State, the Attorney General, and other relevant agencies, to have provided, or attempted to provide, financial, material, technological or other support for, or goods or services in support of, any activity or transaction described in clause (2) above or any person whose property and interests in property are blocked pursuant to the Order; and (4) any person determined by the Secretary of the Treasury, in consultation with the Secretary of State, the Attorney General, and other relevant agencies, to be owned or controlled by, or acting or purporting to act for or on behalf of, directly or indirectly, any person whose property and interests in property are blocked pursuant to the Order.

Information on the additional designees is as follows:

Name: National Aerospace Development Administration

• AKA: NADA

• Location: North Korea

Name: Academy of National Defense Science

• Location: Pyongyang, DPRK

Name: Ministry of Atomic Energy Industry

• AKA: MAEI

• Location: Haeun-2-dong, Pyongchon District, Pyongyang, DPRK

Name: Choe Chun Sik

• AKA: Ch'oe Ch'un Sik

• Identifiers: DOB: 12 October 1954; Nationality: DPRK

Name: Kang Mun Kil

• AKA: Jiang Wen-ji

• Passport: PS 472330208; Passport Date of Expiration: 4 July 2017; Nationality: DPRK

Name: Namchongang Trading Corporation

• AKA: Namhung Trading Corporation

• AKA: Namhung

• Location: Chilgol, Mangyongdae District, Pyongyang, DPRK

Dated: March 1, 2016.
Rose Gottemoeller,
Under Secretary for Arms Control and International Security, Department of State.

[FR Doc. 2016-05847 Filed 3-14-16; 8:45 am]

BILLING CODE 4710-27-P